DEPARTMENT OF THE INTERIOR

National Park Service

Notice of Intent to Repatriate Cultural Items: U.S. Department of Defense, Army Corps of Engineers, Portland District, Portland, OR and Confederated Tribes of the Umatilla Reservation, Oregon

AGENCY: National Park Service, Interior.

ACTION: Notice.

Notice is here given in accordance with the Native American Graves Protection and Repatriation Act (NAGPRA), 25 U.S.C. 3005, of the intent to repatriate cultural items in the possession of the Confederated Tribes of the Umatilla Reservation, Oregon, and in the control of the U.S. Department of Defense, Army Corps of Engineers, Portland District, Portland, OR, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

Between 1948 and 1986, the Old Town Umatilla Townsite (35 UM 1/35 UM 35) underwent various and extensive excavations by multiple entities. Since 1976, the human remains and funerary objects have undergone multiple re-interments and repatriations to the Confederated Tribes of the Umatilla Reservation, Oregon. In 2005, a bag was located in collections labeled as being removed from the Old Town Umatilla Townsite cemetery area, Umatilla County, OR. The 19 unassociated funerary objects are 1 harpoon point, 1 utilized flake, 1 bone awl, 5 projectile points, 1 projectile point fragment, 1 knife, 1 knife fragment, 1 metal rod, 1 pounding stone, 2 uniface choppers, 1 flake, 1 fishbone, 1 charcoal, and 1 shell.

The human remains with which the cultural items were originally associated were previously published in a Notice of Inventory Completion in the Federal Register on April 25, 2003, (FR Doc 03-10029, pages 20406-20407), and were physically repatriated to the Confederated Tribes of the Umatilla Reservation, Oregon on June 13, 2003. Since the human remains are no longer in the control of the Army Corps of Engineers, Portland District, the cultural items in this notice meet the definition of unassociated funerary objects under NAGPRA. On February 21, 2006 the tribe submitted a claim to the Army Corps of Engineers, Portland District for the newly discovered unassociated funerary items.

The Old Town Umatilla site was first occupied in 470 B.C. and is considered to be a prehistoric and historic Umatilla village. The site served as a major winter village of the Umatilla Indians during late prehistoric times, and includes a cemetery that dates from approximately 500 B.C. to A.D. 1700. The site lies within the traditional lands of the present-day Confederated Tribes of the Umatilla Reservation, Oregon.

Officials of the Army Corps of Engineers, Portland District have determined that, pursuant to 25 U.S.C. 3001 (3)(B), the 19 cultural items described above are reasonably believed to have been placed with or near individual human remains at the time of death or later as part of the death rite or ceremony and are believed, by a preponderance of the evidence, to have been removed from a specific burial site of a Native American individual. Officials of the Army Corps of Engineers, Portland District also have determined that, pursuant to 25 U.S.C. 3001 (2), there is a relationship of shared group identity that can be reasonably traced between the unassociated funerary objects and the Confederated Tribes of the Umatilla Reservation, Oregon.

Representatives of any other Indian tribe that believes itself to be culturally affiliated with the unassociated funerary objects should contact Mr. Robert Willis, U.S. Army Corps of Engineers, Portland District, P.O. Box 2946, Portland, OR 97208-2946, telephone (503) 808-4760 before January 29, 2007. Repatriation of the unassociated funerary objects to the Confederated Tribes of the Umatilla Reservation, Oregon may proceed after that date if no additional claimants come forward.

Army Corps of Engineers, Portland District is responsible for notifying the Confederated Tribes of the Umatilla Reservation, Oregon that this notice has been published.

Dated: November 21, 2006
Sherry Hutt,
Manager, National NAGPRA Program.

[FR Doc. E6-22345 Filed 12-28-06; 8:45 am]

BILLING CODE 4312-50-S